DEPARTMENT OF THE TREASURY

Submission for OMB Review; Comment Request

December 30, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 7, 2005 to be assured of consideration.

Internal Revenue Service (IRS)

OMB Number: 1545-0197.

Form Number: IRS Form 5300 and Schedule Q (Form 5300).

Type of Review: Revision.

Title: Form 5300: Application for Determination for Employee Benefit Plan; and Schedule Q (Form 5300): Elective Determination Requests.

Description: IRS needs certain information on the financing and operating of employee benefits and employers. IRS uses Form 5300 to obtain the information needed to determine whether the plans qualify under Code sections 401(a) and 501(a). Schedule Q provides information related to the manner in which a plan satisfies certain qualification requirements relating to minimum participation, coverage, and nondiscrimination.

Respondents: Business or other for-profit, Individuals or households.

Estimated Number of Respondents/Recordkeepers: 185,000.

Estimated Burden Hours Respondent/Recordkeeper:

| Form 5300 | Schedule Q (Form 5300)
Recordkeeping | 41 hr., 7 min. | 6 hr., 13 min.
Learning about the law or the form | 8 hr., 0 min. | 9 hr., 14 min.
Preparing the form | 13 hr., 40 min. | 9 hr., 45 min.
Copying, assembling, and sending the form to the IRS | 1 hr., 20 min. | 0 hr., 0 min.

Frequency of response: On occasion.

Estimated Total Reporting/Recordkeeping Burden: 7,972,750 hours.

Clearance Officer: Paul H. Finger (202) 622-3634, Internal Revenue Service, Room 6516, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 05-336 Filed 1-6-05; 8:45 am]

BILLING CODE 4830-01-U